DEPARTMENT OF TRANSPORTATION

Surface Transportation Board

49 CFR Part 1002

[Docket No. EP 542 (Sub-No. 22)]

Regulations Governing Fees for Services Performed in Connection With Licensing and Related Services—2014 Update

Correction

In rule document 2014-16467 appearing on pages 41137 through 41141 in the issue of Tuesday, July 15, 2014, make the following correction:

1. On page 41137, in the third column, in the DATES section “August 13, 2014” should read “August 14, 2014”.

[FR Doc. C1-2014-16467 Filed 7-16-14; 8:45 am]

BILLING CODE 1505-01-D